FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012194.

Title: The G6 Alliance Agreement.

Parties: American President Lines, Ltd. and APL Co. Pte, Ltd. (Operating as one Party); Hapag-Lloyd AG; Hyundai Merchant Marine Co., Ltd.; Mitsui O.S.K. Lines, Ltd.; Nippon Yusen Kaisha; and Orient Overseas Container Line, Limited.

Filing Party: David F. Smith, Esq.; Cozen O'Connor; 1627 I Street NW., Suite 1100, Washington, DC 20006.

Synopsis: The agreement authorizes the parties to charter and exchange space on one another's vessels and to coordinate and cooperate with respect to the parties' transportation services and operations in the trade between ports in North Asia, South Asia, Middle East (including the Persian Gulf region), Spain, Italy, Egypt, Panama, Jamaica, and Canada, on the one hand, and U.S. East Coast ports via the Panama and Suez canals, on the other hand, as well as ports and points served via such U.S. and foreign ports.

Agreement No.: 201220.

Title: Exclusive Agreement for Terminal Services and Stevedoring Services.

Parties: Lake Charles Harbor & Terminal District and Federal Marine Terminals, Inc. (FMT).

Filing Party: C. Jonathan Benner; Thompson Coburn LLC; 1909 K Street NW. Suite 600, Washington, DC 20006.

Synopsis: The agreement permits FMT to provide, on an exclusive basis, all terminal services and stevedoring services only for the cargo handled within the public areas of the Lake Charles city docks.

Dated: February 8, 2013.
By Order of the Federal Maritime Commission.
Karen V. Gregory,
Secretary.

[FR Doc. 2013-03325 Filed 2-12-13; 8:45 am]

BILLING CODE 6730-01-P